DEPARTMENT OF COMMERCE

International Trade Administration

(A-533-820)

Certain Hot-Rolled Carbon Steel Flat Products from India: Extension of Time Limits for the Final Results of Antidumping Duty Administrative Review

AGENCY: Import Administration, International Trade Administration, Department of Commerce.

FOR FURTHER INFORMATION CONTACT: Joy Zhang, AD/CVD Operations, Office 3, Import Administration, International Trade Administration, U.S. Department of Commerce, 14th Street and Constitution Ave, NW, Washington, DC 20230; telephone: (202) 482-1168.

SUPPLEMENTARY INFORMATION:

Background

On February 2, 2007, the U.S. Department of Commerce (“Department”) published a notice of initiation of the administrative review of the antidumping duty order on certain hot-rolled carbon steel flat products from India, covering the period December 1, 2005, to November 30, 2006. See Initiation of Antidumping and Countervailing Duty Administrative Reviews and Request for Revocation in Part, 72 FR 5005 (February 2, 2007). On December 31, 2007, the Department published the preliminary results of the antidumping duty administrative review for certain hot-rolled carbon steel flat products from India. See Certain Hot-Rolled Carbon Steel Flat Products from India: Notice of Preliminary Results of Antidumping Duty Administrative Review, 72 FR 74267 (December 31, 2007). The final results of this review are currently due no later than April 29, 2008.

Extension of Time Limit of Final Results

Section 751(a)(3)(A) of the Tariff Act of 1930, as amended (“the Act”), requires the Department to issue final results within 120 days after the date on which the preliminary results are published. However, if it is not practicable to complete the review within that time period, section 751(a)(3)(A) of the Act allows the Department to extend the time limit for the final results to a maximum of 180 days. See also 19 CFR 351.213(h)(2).

We determine that it is not practicable to complete the final results of this review within the original time limit. Petitioners requested additional time to review the verification reports and submit case briefs. Accordingly, we amended the schedule for interested parties to submit case briefs and rebuttal briefs, which are now due on Friday, April 4, 2008, and Friday, April 11, 2008, respectively. The Department is extending the final results by 15 days, in accordance with section 751(a)(3)(A) of the Act, to allow sufficient time to analyze interested parties' case briefs and rebuttal briefs. The final results are now due no later than May 14, 2008. This extension is issued and published in accordance with sections 751(a)(3)(A) and 777(i) of the Act.

Dated: April 1, 2008.
Stephen J. Claeys,
Deputy Assistant Secretary for Import Administration.

[FR Doc. E8-7201 Filed 4-4-08; 8:45 am]

BILLING CODE 3510-DR-S